DEPARTMENT OF ENERGY

Federal Energy Regulatory Commission

[Docket No. CP13-488-000]

ANR Pipeline Company; Notice of Request Under Blanket Authorization

Take that on May 31, 2013, ANR Pipeline Company (ANR), 717 Texas Street, Houston, Texas 77002-2761, filed in Docket No. CP13-488-000, a Prior Notice request pursuant to Sections 157.205, and 157.216 (b) of the Commission's Regulations under the Natural Gas Act, and ANR's blanket certificate issued in Docket No. CP82-480, for authorization to abandon four wells in the Lincoln-Freeman Storage Field in Clare County, Michigan. Specifically, ANR proposes to abandon the Buccanning 51, Callihan 52, and Frackelton 56 injection/withdrawal wells, the Lincoln 106 observation well, and related laterals and appurtenances in order to remediate mechanical integrity concerns at the wells, all as more fully set forth in the application which is on file with the Commission and open to public inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Any questions regarding this Application should be directed to Linda Farquhar, Manager, Project Determinations & Regulatory Administration, ANR Pipeline Company, 717 Texas Street, Houston, Texas, 77002-2761, at (832) 320-5685 or fax (832) 320-5705 or linda_farquhar@transcanada.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

Persons who wish to comment only on the environmental review of this project should submit an original and two copies of their comments to the Secretary of the Commission. Environmental commenter's will be placed on the Commission's environmental mailing list, will receive copies of the environmental documents, and will be notified of meetings associated with he Commission's environmental review process. Environmental commenter's will not be required to serve copies of filed documents on all other parties. However, the non-party commentary, will not receive copies of all documents filed by other parties or issued by the Commission (except for the mailing of environmental documents issued by the Commission) and ill not have the right to seek court review of the Commission's final order.

The Commission strongly encourages electronic filings of comments, protests, and interventions via the internet in lieu of paper. See 18 CFR 385.2001(a) (1) (iii) and the instructions on the Commission's Web site (www.ferc.gov) under the “e-Filing” link. Persons unable to file electronically should submit an original and 5 copies of the protest or intervention to the Federal Energy regulatory Commission, 888 First Street, NE., Washington, DC 20426.

Dated: June 12, 2013.
Kimberly D. Bose,
Secretary.

[FR Doc. 2013-14544 Filed 6-18-13; 8:45 am]

BILLING CODE 6717-01-P